DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[9/8/2009 through 11/6/2009]
Firm | Address | Date accepted for filing | Products
Chicago Turnrite Company, Inc | 4459 W. Lake St., Chicago, IL, 60624 | 9/23/2009 | Precision machined parts for the marine, agriculture, railroad, hydraulic and index components industries.
Magil Corporation | 500 N. Oakwood Rd., Lake Zurich, IL 60047 | 9/24/2009 | High tech electric motors designed for elevators.
C Cretors and Company | 3243 N. California Avenue, Chicago, IL 60618 | 9/23/2009 | Food concession and industrial food processing equipment.
Transwall Office Systems, Inc | P.O. Box 1930, 1220 West Chester, PA 19380 | 10/14/2009 | Moveable, modular walls of steel, glass and aluminum partitions and systems office furniture.
Altronics Manufacturing Inc | 12 Executive Drive, Unit 2, Hudson, NH 03051 | 9/24/2009 | Surface mount and thru-hole printed circuit board PCB assembly, and fully integrated services including cables, Electro-mechanical assemblies and full box-build chassis integration.
Jewell Instruments LLC | 850 Perimeter Road, Manchester, NH 03103 | 9/24/2009 | Custom analog and digital panel meters, avionic mechanisms, inertial sensors, precision solenoids and test equipment. They also provide design and engineering services.
Doors and More Inc | 2775 Baxter Lane, Bozeman, MT 59718 | 9/8/2009 | Flush doors.
Distech Systems, Inc | 1005 Mt. Read Boulevard, Rochester, NY 14606 | 9/24/2009 | Automated robotic tray handling systems.
Attica Lumber Co., Inc | P.O. Box 118, 71 Market, Attica, NY 14011 | 9/24/2009 | Hardwood moldings, dovetailed drawers, store fixtures and kitchen cabinet components.
Jazz Semiconductor Inc | 4321 Jamboree Road, Newport Beach, CA 92660 | 10/27/2009 | Analog-Intensive Mixed-Signal CA (AIMS) process technologies.
Innovative Coatings, Inc | 24 Jayar Road, Medway, MA 02053 | 9/25/2009 | Custom molded grips, caps, sleeves and covers.
Champion Bus, Inc./General Coach America | 331 Graham Rd., Imlay City, MI 48444 | 9/25/2009 | Passenger busses and coaches for public transportation.
CAB Footwear LP | 2100 Wyoming Ave., EI Paso, TX 79903 | 9/25/2009 | Leather footwear, custom boots.
Matenaer Corporation | 810 Schoenhaar Dr., West Bend, WI 53090 | 10/29/2009 | Stamped metal products for the agriculture, lawn and garden, heavy truck, construction hardware and equipment, automotive, engine & transmission, and consumer products industries.
Marquette Tool and Die Company | 3185 S. Kingshighway, St. Louis, MO 63139 | 10/23/2009 | Metal tooling, stampings.
Sweeney Enterprises, Inc | 321 Waring Welfare Rd., Boerne, TX 78006 | 10/23/2009 | Automatic (stand alone) animal feeders.
Sunset Metal Works, Inc | 221 Sunset Blvd. W., Chambersburg, PA 17202 | 11/2/2009 | Fabrication manufacturing. Engineering, cutting, welding, machining, forming and painting components to customer specifications.
True Precision Plastics, Inc | 310 Running Pump Road, Lancaster, PA 17603 | 11/3/2009 | Plastic injection molded parts such as housings hubs, gears and other components for scales, security cameras and wireless antennas.
S & S Cycle, Inc | 14025 County Highway G, Viola, WI 54664-8892 | 9/10/2009 | Complete engines, performance parts, and stock replacement parts.
ThyssenKrupp Bilstein of America, Inc | 8685 Berk Blvd., Hamilton, OH 45015 | 9/25/2009 | Shock absorbers.
Montana Sundown dba Rocky Mountain | 1883 Highway 93 S, Hamilton, MT 59840 | 10/9/2009 | Custom notched logs for log home kits.
Pacific Coast Anodizing Inc | 1616 W Pine Avenue, Fresno, CA 93728 | 10/29/2009 | Metal finishing facility.
PT Systems, Inc | 1980 Olivera Rd., Ste. A, Concord, CA 94520 | 11/2/2009 | Assembly of PC boards, cables and signal generator manufacture of utility sub-meters.
Digital Machine Company | 1055 B Louis Drive, Warminster, PA 18974 | 11/2/2009 | Custom precision machined parts and components for precision flow measuring equipment.
K-Fab, Inc | 1408 N. Vine Street, Berwick, PA 18603 | 11/2/2009 | Cab assemblies for trucks and forklifts; scrapers for large earth moving equipment; and axles for vehicles from special dies and tools.
Alchemy Glass & Light, Inc | 5715 McKinley Avenue, Los Angeles, CA 90011 | 10/9/2009 | Glass sinks, countertops, light fixtures, tableware, and mirrors through kiln forming and finishing processes.
Hawaiian Candies & Nuts, Ltd dba Menehune Mac | 707 A Waiakamilo Road, Honolulu, HI 96817 | 10/23/2009 | Macadamia nut chocolates, macadamia nut confections, and cookies.
Mountain States Steel | 325 South Geneva Road, Lindon, UT 84042 | 11/3/2009 | Fabricated structural steel for bridges and towers used in industrial, commercial, and government construction.
Williamson Corporation | 70 Domino Drive, Concord, MA 01742 | 10/28/2009 | Industrial thermometers.
Jannel Packaging, Inc | 5 Mear Road, Holbrook, MA 02343 | 10/28/2009 | Polyethylene film bags with and without adhesive backing.
Perceptron, Inc | 47827 Halyard Drive, Plymouth, MI 48170 | 11/3/2009 | Coordinate-measuring machines for in-line measurement.
S&S Steel Fabrication | 2292 W 500 N, Hurricane, UT 84737 | 10/29/2009 | Fabricated structural steel for industrial, commercial, and government construction projects.
Cardinal Scale Manufacturing Co | 203 E. Daugherty, Webb City, MO 64870 | 9/25/2009 | Scales & weighing equipment and components.
Precision Metalcraft, LLC | 2853 S. Hillaide St., Wichita, KS 67216-2546 | 10/28/2009 | High precision stainless steel, titanium & aluminum structural components for the aerospace industry.
Gorbel, Inc | 600 Fishers Run, P.O. Box, Fishers, NY 14453-0593 | 10/29/2009 | Lifting solutions including work station, jib and gantry cranes that can handle loads from 50 pounds to 40 tons.
Comfort Care Textiles, Inc | 312 Fleetwood Street, Coatesville, PA 19320 | 10/28/2009 | Reusable incontinent under pads, diapers, briefs, bibs and other health care products.
Electro Medical Equipment Co. Inc | 12015 Industriplex Blvd., Baton Rouge, LA 70809 | 10/9/2009 | Various medical nylon straps.
Key City Furniture Company Inc | 1804 River Street, Wilkesboro, NC 28697 | 10/30/2009 | Upholstered furniture.
Oberdorfer LLC | 6259 Thompson Road, Syracuse, NY 13206 | 10/9/2009 | Aluminum castings with dry sand, permanent mold, semi-permanent mold, and no-bake processes to meet and exceed customer requirement and quality standards.
Tonka Seafoods, Inc | 22 S South Sing Lee Alley, Petersburg, AK 99833 | 10/30/2009 | Salmon, fresh whole and filleted, smoked salmon.
Klune Industries, Inc | 1800 North 300 West, Spanish Fork, UT 84660 | 9/22/2009 | Precision machined aircraft components and assemblies.
Synesso, Inc | 309 S Cloverdale Suite, Seattle, WA 98108 | 10/29/2009 | Espresso and coffee machines.
White Electronic Designs Corporation | 3601 E. University Drive, Phoenix, AZ 85034-7217 | 9/23/2009 | Semiconductors and related devices.
Turning Solutions, Inc | 34 East Harmer Street, Warren, PA 16365 | 9/10/2009 | Metal and nonmetal turned CNC precision products such as bolts, nuts, rivets, valves, pipe fittings and washers.
Keadle Lumber Enterprises, Inc | 889 Railroad Street, Thomaston, GA 30286 | 10/29/2009 | Wood chips, lumber and small timbers.
HydroDot, Inc | 238 Littleton Road, Westford, MA 01886 | 10/29/2009 | EzeNet is a fabric headpiece with sockets for HydroDot electrodes. HydroDots are the patented electrodes for the EzeNet.
CB Manufacturing & Sales Company | 4455 Infirmary Road, West, OH 45449 | 10/29/2009 | Industrial saws, blades and knives as well as metal grinding services.
D. L. Martin Company | 25 Harbaugh Drive, Mercersburg, PA 17326 | 10/29/2009 | Precision machined parts such as components for heavy industrial equipment, construction equipment, custom hydraulics and mining equipment.
S E Moulding, Inc | 408 N. Baltimore Avenue, Mt. Holly, PA 17065 | 10/29/2009 | Custom injection molded parts of plastic for the medical, automotive and food industries.
Rochester Gear, Inc | 213 Norman Street, Rochester, NY 14613-1813 | 11/3/2009 | Spur, bevel, straight and spiral gears, speed changers.
Refractory Anchors, Inc | 9836 S 219th E. Ave., Broken Arrow, OK 74014 | 10/29/2009 | High temperature refractory anchors, mastics and hex-metal.
Burr King Manufacturing Co., Inc | 1220 Tamara Lane, Warsaw, MO 65355 | 10/29/2009 | Polishing equipment, deburring and grinding machines.
Preston-Eastin Inc | 5341 E. Independence, Tulsa, OK 74115 | 11/3/2009 | Positioning products used in the process of working metals. Positioners, clamps, floor tumblers.
Haumiller Engineering Company | 445 Renner Drive, Elgin, IL 60123 | 11/3/2009 | Small plastic part assembly and test equipment.
B & B Precise Products, Inc | 25 Neck Road, Benton, ME 04901 | 10/29/2009 | Aircraft rotating components.
Hermance Machine Company | 178 Campbell Street, Williamsport, PA | 10/30/2009 | Machines from small powermatic saws to large CNC routers. Also, installation and servicing of this machinery.
Escape Velocity Systems, Inc | 2520 55th Street, Suite 204, Boulder, CO 80301 | 11/3/2009 | Development and integration of enterprise resource planning (ERP) software for businesses.
Accra-Fab, Inc | 23201 E Apple Way Dr., Liberty Lake, WA 99019 | 11/4/2009 | Component parts.
Advance Corporation | 8200 97th Street South, Cottage Grove, MN 55016 | 10/9/2009 | Plaques for awards.
Felton Brush Incorporation | 7 Burton Drive, Londonderry, NH 03053 | 11/4/2009 | Highly engineered sub-assemblies through a broad range of fabrication capabilities.
Bentonville Casting Company, Inc | 1019 South East 8th St., Bentonville, AR 72712-6413 | 11/4/2009 | Gray and ductile iron castings according to customer specifications.
Bevolo Gas & Electric Lights Inc | 521 Conti St., New Orleans, LA 70130 | 11/4/2009 | Commercial lighting fixtures.
Insinger Machine Company | 6245 State Road, Philadelphia, PA 19135 | 11/4/2009 | Commercial dishwashing machines and other food product machinery.
Choice Precision Machine, Inc | 4380 Commerce Drive, Whitehall, PA 18052 | 11/4/2009 | Custom precision machined parts for multiple industries.
QDP Manufacturing Solutions, Inc | 1150 McKinley Street, Anoka, MN 55303 | 11/4/2009 | Metal machined parts for hydraulic components.
American Hollow Boring Company | 1901 Raspberry Street, Erie, PA 16502 | 11/4/2009 | Centrifugal pipe molds for the soil pipe industry.
B & J Manufacturing Corporation | 55 Constitution Drive, Taunton, MA 02780 | 11/4/2009 | Brass giftware and electroplating service.
Highwood USA LLC | 87 Tide Road, Tamaqua, PA 18252 | 11/4/2009 | Urethane and other foam products.
Turnbow Trailers Inc | 115 West Broadway, Oilton, TX 74052 | 11/6/2009 | Trailers for the transportation of goods.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: November 10, 2009.
Bryan Borlik,
Program Director, TAA for Firms.

[FR Doc. E9-27522 Filed 11-16-09; 8:45 am]

BILLING CODE 3510-24-P